DEPARTMENT OF COMMERCE

International Trade Administration

[A-570-945]

Prestressed Concrete Steel Wire Strand From the People's Republic of China: Initiation of Antidumping Duty Investigation

AGENCY: Import Administration, International Trade Administration, Department of Commerce.

DATES: Effective Date: June 23, 2009.

FOR FURTHER INFORMATION CONTACT: Alex Villanueva, AD/CVD Operations, Office 9, International Trade Administration, U.S. Department of Commerce, 14th Street and Constitution Avenue, NW., Washington, DC 20230; telephone: (202) 482-3208.

SUPPLEMENTARY INFORMATION:

The Petition

On May 27, 2009, the Department of Commerce (“the Department”) received an antidumping duty (“AD”) petition concerning imports of prestressed concrete steel wire strand (“PC strand”) from the People's Republic of China (“PRC”) filed in proper form by American Spring Wire Corp., Insteel Wire Products Company, and Sumiden Wire Products Corp., (collectively, “Petitioners”).¹ On June 1, 2009, the Department issued a request for additional information and clarification of certain areas of the Petition. Based on the Department's request, Petitioners filed supplements to the Petition on June 4, 2009 (“Supplement to the AD Petition” and “Supplement to the AD/CVD Petitions). On June 8, 2009, the Department requested further clarifications of industry support and producers/exporters identified in the Petitions. Based on the Department's request, Petitioners filed supplements to the Petition on June 9, 2009 (“Second Supplement to the AD/CVD Petitions”). On June 12, 2009 the Department again asked for clarification regarding the scope. Based on the Department's request, Petitioners filed an additional supplement to the Petition on June 15, 2009 (“Third Supplement to the AD/CVD Petitions”).

¹ See Petitions for the Imposition of Antidumping and Countervailing Duties: Prestressed Concrete Steel Wire Strand From the People's Republic of China, dated May 27, 2009 (the Petition).

In accordance with section 732(b) of the Tariff Act of 1930, as amended (“the Act”), Petitioners allege that imports of PC strand from the PRC are being, or are likely to be, sold in the United States at less than fair value, within the meaning of section 731 of the Act, and that such imports materially injure, or threaten material injury to, an industry in the United States.

The Department finds that Petitioners filed the Petition on behalf of the domestic industry because Petitioners are interested parties as defined in section 771(9)(C) of the Act, and that they have demonstrated sufficient industry support with respect to the investigation that they are requesting the Department to initiate (see “Determination of Industry Support for the Petition” below).

Scope of Investigation

The products covered by this investigation are PC strand from the PRC. For a full description of the scope of the investigation, please see the “Scope of Investigation” in Appendix I of this notice.

Comments on Scope of Investigation

During our review of the Petition, we discussed the scope with Petitioners to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages all interested parties to submit such comments by July 6, 2009, twenty calendar days from the signature date of this notice. Comments should be addressed to Import Administration's APO/Dockets Unit, Room 1870, U.S. Department of Commerce, 14th Street and Constitution Avenue, NW., Washington, DC 20230. The period of scope consultations is intended to provide the Department with ample opportunity to consider all comments and to consult with parties prior to the issuance of the preliminary determinations.

Comments on Product Characteristics for Antidumping Duty Questionnaires

We are requesting comments from interested parties regarding the appropriate physical characteristics of PC strand to be reported in response to the Department's antidumping questionnaires. This information will be used to identify the key physical characteristics of the subject merchandise in order to more accurately report the relevant factors and costs of production, as well as to develop appropriate product comparison criteria.

Interested parties may provide any information or comments that they feel are relevant to the development of an accurate listing of physical characteristics. Specifically, they may provide comments as to which characteristics are appropriate to use as (1) general product characteristics and (2) the product comparison criteria. We note that it is not always appropriate to use all product characteristics as product comparison criteria. We base product comparison criteria on meaningful commercial differences among products. In other words, while there may be some physical product characteristics utilized by manufacturers to describe PC strand, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping duty questionnaires, we must receive comments at the above-referenced address by July 6, 2009. Additionally, rebuttal comments must be received by July 13, 2009.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A), or (ii) determine industry support using a statistically valid sampling method to poll the industry.

Section 771(4)(A) of the Act defines the “industry” as the producers as a whole of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product (See section 771(10) of the Act), they do so for different purposes and pursuant to a separate and distinct authority. In addition, the Department's determination is subject to limitations of time and information. Although this may result in different definitions of the like product, such differences do not render the decision of either agency contrary to law.²

² See USEC, Inc. v. United States, 132 F. Supp. 2d 1, 8 (CIT 2001), citing Algoma Steel Corp. Ltd. v. United States, 688 F. Supp. 639, 644 (CIT 1988), aff'd 865 F.2d 240 (Fed. Cir. 1989), cert. denied 492 U.S. 919 (1989).

Section 771(10) of the Act defines the domestic like product as “a product which is like, or in the absence of like, most similar in characteristics and uses with, the article subject to an investigation under this subtitle.” Thus, the reference point from which the domestic like product analysis begins is “the article subject to an investigation,” (i.e., the class or kind of merchandise to be investigated, which normally will be the scope as defined in the petition).

With regard to the domestic like product, Petitioners do not offer a definition of domestic like product distinct from the scope of the investigation. Based on our analysis of the information submitted on the record, we have determined that PC strand constitutes a single domestic like product and we have analyzed industry support in terms of that domestic like product.³

³ For a discussion of the domestic like product analysis in this case, see Antidumping Duty Investigation Initiation Checklist: PC Strand from the PRC (“Initiation Checklist”) at Attachment II (“Industry Support”), dated concurrently with this notice and on file in the Central Records Unit (“CRU”), Room 1117 of the main Department of Commerce building.

In determining whether Petitioners have standing under section 732(c)(4)(A), we considered the industry support data contained in the Petition with reference to the domestic like product as defined in the “Scope of Investigation” section above. To establish industry support, Petitioners provided their production of the domestic like product for the year 2008, and compared this to total production of the domestic like product for the entire domestic industry.⁴ Petitioners calculated total domestic production based on their own production plus information provided by the two other non-petitioning companies that produce the domestic like product in the United States, who are supporters of the Petition.⁵

⁴ See Volume I of the Petition, at 4, and Exhibit General-1.

⁵ See Volume I of the Petition, at Exhibit General-1, and Supplement to the AD/CVD Petitions, at 5-6, and Attachment 3, and Second Supplement to the AD/CVD Petitions, at 5, and Attachment 1; see also Initiation Checklist as Attachment II, Industry Support.

Our review of the data provided in the Petition, supplemental submissions, and other information readily available to the Department indicates that Petitioners have established industry support. First, the Petition established support from domestic producers (or workers) accounting for more than 50 percent of the total production of the domestic like product and, as such, the Department is not required to take further action in order to evaluate industry support (e.g., polling).⁶ Second, the domestic producers (or workers) have met the statutory criteria for industry support under section 732(c)(4)(A)(i) of the Act because the domestic producers (or workers) who support the Petitions account for at least 25 percent of the total production of the domestic like product.⁷ Finally, the domestic producers (or workers) have met the statutory criteria for industry support under section 732(c)(4)(A)(ii) of the Act because the domestic producers (or workers) who support the Petition account for more than 50 percent of the production of the domestic like product produced by that portion of the industry expressing support for, or opposition to, the Petition. Accordingly, the Department determines that the Petition was filed on behalf of the domestic industry within the meaning of section 732(b)(1) of the Act.⁸

⁶ See Section 732(c)(4)(D) of the Act, and Initiation Checklist at Attachment 2.

⁷ See Initiation Checklist at Attachment II.

⁸ See id.

The Department finds that Petitioners filed the Petition on behalf of the domestic industry because they are interested parties as defined in section 771(9)(C) of the Act and they have demonstrated sufficient industry support with respect to the antidumping investigation that they are requesting the Department initiate.⁹

⁹ See id.

Allegations and Evidence of Material Injury and Causation

Petitioners allege that the U.S. industry producing the domestic like product is being materially injured, or is threatened with material injury, by reason of the imports of the subject merchandise sold at less than normal value (“NV”). In addition, Petitioners allege that subject imports exceed the negligibility threshold provided for under section 771(24)(A) of the Act.

Petitioners contend that the industry's injured condition is illustrated by reduced market share, increased import penetration, underselling and price depressing and suppressing effects, lost sales and revenue, reduced production, capacity, and capacity utilization, reduced employment, and an overall decline in financial performance. We have assessed the allegations and supporting evidence regarding material injury, threat of material injury, and causation, and we have determined that these allegations are properly supported by adequate evidence and meet the statutory requirements for initiation.¹⁰

¹⁰ See Initiation Checklist at Attachment 3.

Period of Investigation

In accordance with 19 CFR 351.204(b)(1), because this Petition was filed on May 27, 2009, the anticipated period of investigation (“POI”) is October 1, 2008, through March 31, 2009.

Allegations of Sales at Less Than Fair Value

The following is a description of the allegations of sales at less than fair value upon which the Department has based its decision to initiate an investigation with respect to the PRC. The sources of data for the deductions and adjustments relating to U.S. price and normal value (“NV”) are discussed in the Initiation Checklist. Should the need arise to use any of this information as facts available under section 776 of the Act, we may reexamine the information and revise the margin calculations, if appropriate.

Export Price

Petitioners calculated export prices (“EPs”) for PC strand of various diameters: ⅜ ″ diameter, ½ ″ diameter and 0.6 ″ diameter. These were based on price quotes obtained through offers of sale. Petitioner presented affidavits for the offers for sale attesting that the offers were made during the POI.¹¹

¹¹ See Initiation Checklist for further discussion.

To calculate the net U.S. EP, Petitioners deducted from the starting U.S. prices ocean freight and insurance charges, U.S. port fees, foreign brokerage and, as appropriate, a re-seller mark-up. U.S. inland freight costs were also deducted when such information was available. We have not made any additional deductions.

Petitioners calculated per-unit ocean freight and insurance using import statistics reported by the U.S. International Trade Commission Dataweb. As for U.S. port fees, Petitioners included the 0.21 percent ad valorem harbor maintenance fee as well as the 0.125 percent merchandise processing fee. Foreign brokerage was calculated using the Department's methodology in Certain Kitchen Appliance Shelving and Racks from the People's Republic of China and then converted to the appropriate unit.¹² Petitioners calculated re-seller mark-ups based on industry knowledge, choosing a lower value in order to produce a conservative estimate. Lastly, U.S. inland freight was calculated based on Petitioners' experience delivering PC strand inside the United States and the number of miles from the closest U.S. port to the location of the U.S. customer.¹³

¹² See Memorandum from Katie Marksberry to The File, regarding Investigation of Certain Kitchen Appliance Shelving and Racks from the People's Republic of China: Surrogate Value Determination, dated February 26, 2009, at 17.

¹³ See Initiation Checklist for further discussion.

Normal Value

Petitioners state that in every previous less-than-fair value investigation involving merchandise from the PRC, the Department has concluded that the PRC is a non-market economy country (“NME”) and, as the Department has not revoked this determination, its NME status remains in effect today.¹⁴ The Department has previously examined the PRC's market status and determined that NME status should continue for the PRC.¹⁵ In addition, in recent antidumping duty investigations, the Department has continued to determine that the PRC is an NME country.¹⁶

¹⁴ See Volume II-A of the Petition, at 47.

¹⁵ See Memorandum from the Office of Policy to David M. Spooner, Assistant Secretary for Import Administration, regarding The People's Republic of China Status as a Non-Market Economy, dated May 15, 2006. This document is available online at http://ia.ita.doc.gov/download/prc-nme-status/prc-nme-status-memo.pdf.

¹⁶ See Certain Circular Welded Carbon Quality Steel Line Pipe from the People's Republic of China: Final Determination of Sales at Less Than Fair Value, 74 FR 14514 (March 31, 2009); Frontseating Service Valves from the People's Republic of China: Final Determination of Sales at Less Than Fair Value and Final Negative Determination of Critical Circumstances, 74 FR 10886 (March 13, 2009); 1-Hydroxyethylidene-1, 1-Diphosphonic Acid From the People's Republic of China: Final Determination of Sales at Less Than Fair Value, 74 FR 10545 (March 11, 2009).

In accordance with section 771(18)(C)(i) of the Act, the presumption of NME status remains in effect until revoked by the Department. The presumption of NME status for the PRC has not been revoked by the Department and, therefore, remains in effect for purposes of the initiation of this investigation. Accordingly, the NV of the product is appropriately based on factors of production valued in a surrogate market economy country, in accordance with section 773(c) of the Act. In the course of this investigation, all parties will have the opportunity to provide relevant information related to the issues of the PRC's NME status and the granting of separate rates to individual exporters.

Petitioners argue that India is the appropriate surrogate country for the PRC because it is at a comparable level of economic development and it has two major producers of PC strand.¹⁷ Petitioners state that the Department has determined in previous antidumping duty investigations and administrative reviews that India is at a level of development comparable to the PRC.¹⁸ Petitioners also assert that there are two major producers of the subject merchandise in India, the Tata Steel Group and the Usha Martin Group.¹⁹

¹⁷ See Volume II-A of the Petition, at 47-49.

¹⁸ See id.

¹⁹ See id.

Based on the information provided by Petitioners, the Department believes that the use of India as a surrogate country is appropriate for purposes of initiation. However, after initiation of the investigation, interested parties will have the opportunity to submit comments regarding surrogate country selection and, pursuant to 19 CFR 351.301(c)(3)(i), will be provided an opportunity to submit publicly available information to value factors of production within 40 days after the date of publication of the preliminary determination.

Petitioners provided dumping margin calculations using the Department's NME methodology as required by 19 CFR 351.202(b)(7)(i)(C) and 19 CFR 351.408. Petitioners calculated three NVs for PC strand, including diameters of ⅜ ″, ½ ″, and 0.6 ″.

Petitioners valued the factors of production using reasonably available, public surrogate country data, including India import data from the Monthly Statistics of the Foreign Trade of India (“MSFTI”) as compiled by the World Trade Atlas (WTA) from the period May 2008 through October 2008, the most current data available, information regarding labor costs on the Department's Web site, the International Energy Agency Statistics, and information from the 2007/2008 unconsolidated financial reports of the Tata Steel Group and the Usha Martin Group.²⁰ To calculate the consumption rates, the Petitioners used the consumption rates for U.S. producers during the POI.²¹

²⁰ See Volume II-A of the Petition, at 51-54.

²¹ See Volume II-A of the Petition, at 49-50, and Exhibit AD-6.

Petitioners state that they valued hot-rolled, high-carbon steel wire rod using the WTA data, which was then converted to the appropriate unit.²² Petitioners valued electricity using Indian electricity rates disseminated by the International Energy Agency.²³ Petitioners valued labor using the wage rate data published on the Department's Web site, at http://ia.ita.doc.gov.²⁴ Petitioners valued natural gas according to Indian import data compiled by the WTA.²⁵

²² See Volume II-A of the Petition, at 52, and Supplement to the AD Petition, at 5.

²³ See Volume II-A of the Petition, at 53, and Exhibit AD-7.

²⁴ See Volume II-A of the Petition, at 52, and Exhibits AD-6 and AD-7.

²⁵ See Volume II-A of the Petition, at 53, and Exhibit AD-7.

Where Petitioners were unable to find input prices contemporaneous with the POI, Petitioners adjusted for inflation using the wholesale price index for India, as published by the International Monetary Fund.²⁶ Petitioners used exchange rates, as reported by the Federal Reserve, to convert Indian Rupees to U.S. Dollars.²⁷

²⁶ See Volume II-A of the Petition, at 51, and Exhibit AD-7.

²⁷ See id.

Petitioners based factory overhead, selling, general and administrative expenses (“SG&A”), and profit, on the financial ratios of the Tata Steel Group and the Usha Martin Group as both companies are significant producers of PC strand.²⁸ The ratios were obtained from each respective company's 2007/2008 unconsolidated financial reports and then averaged together.²⁹

²⁸ See Volume II-A of the Petition, at 48-49; see also Supplement to the AD Petition, dated June 4, 2009, at 2-5.

²⁹ See Volume II-A of the Petition, at 53-54, and Exhibit AD-8; see also Supplement to the AD Petition, dated June 4, 2009, at 6.

Fair-Value Comparisons

Based on the data provided by Petitioners, there is reason to believe that imports of PC strand from the PRC are being, or are likely to be, sold in the United States at less than fair value. Based on comparisons of EP to NV as revised above, the estimated dumping margins for the PRC range from 140.16 percent to 314.59 percent.³⁰

³⁰ See Supplement to the AD Petition, at Exhibit Supp. AD-1.

Initiation of Antidumping Investigation

Based upon the examination of the Petition concerning PC strand from the PRC and other information reasonably available to the Department, the Department finds that the Petition meets the requirements of section 732 of the Act. Therefore, we are initiating an antidumping duty investigation to determine whether imports of PC strand from the PRC are being, or are likely to be, sold in the United States at less than fair value. In accordance with section 733(b)(1)(A) of the Act, unless postponed, we will make our preliminary determinations no later than 140 days after the date of this initiation.

Targeted-Dumping Allegations

On December 10, 2008, the Department issued an interim final rule for the purpose of withdrawing 19 CFR 351.414(f) and (g), the regulatory provisions governing the targeted-dumping analysis in antidumping duty investigations, and the corresponding regulation governing the deadline for targeted-dumping allegations, 19 CFR 351.301(d)(5).³¹ The Department stated that “{w}ithdrawal will allow the Department to exercise the discretion intended by the statute and, thereby, develop a practice that will allow interested parties to pursue all statutory avenues of relief in this area.” ³²

³¹ See Withdrawal of the Regulatory Provisions Governing Targeted Dumping in Antidumping Duty Investigations, 73 FR 74930 (December 10, 2008).

³² Id. at 74931.

In order to accomplish this objective, if any interested party wishes to make a targeted-dumping allegation in this investigation pursuant to section 777A(d)(1)(B) of the Act, such allegation is due no later than 45 days before the scheduled date of the preliminary determination.

Respondent Selection

The Department will request quantity and value information from the exporters and producers identified in the Petition with complete contact information. The quantity and value data received from NME exporters/producers will be used as the basis to select the mandatory respondents.

The Department requires that the respondents submit a response to both the quantity and value questionnaire and the separate-rate application by the respective deadlines in order to receive consideration for separate-rate status.³³ Appendix II of this notice contains the quantity and value questionnaire that must be submitted by all NME exporters/producers no later than July 7, 2009. In addition, the Department will post the quantity and value questionnaire along with the filing instructions on the Department's Web site, at http://ia.ita.doc.gov/ia-highlights-and-news.html.

³³ See Circular Welded Austenitic Stainless Pressure Pipe from the People's Republic of China: Initiation of Antidumping Duty Investigation, 73 FR 10221, 10225 (February 26, 2008); and Initiation of Antidumping Duty Investigation: Certain Artist Canvas From the People's Republic of China, 70 FR 21996, 21999 (April 28, 2005).

Separate Rates

In order to obtain separate-rate status in an NME investigation, exporters and producers must submit a separate-rate status application.³⁴ The specific requirements for submitting the separate-rate application in this investigation are outlined in detail in the application itself, available on the Department's Web site at http://ia.ita.doc.gov/ia-highlights-and-news.html on the date of publication of this initiation notice in the Federal Register. The separate-rate application will be due sixty (60) days from the date of publication of this initiation notice in the Federal Register.

³⁴ See Certain Circular Welded Carbon Quality Steel Line Pipe from the Republic of Korea and the People's Republic of China: Initiation of Antidumping Duty Investigations, 73 FR 23188, 23193 (April 29, 2008). (“Certain Circular Welded Carbon Quality Steel Line Pipe from the PRC ”).

Use of Combination Rates in an NME Investigation

The Department will calculate combination rates for certain respondents that are eligible for a separate rate in this investigation. The Separate Rates/Combination Rates Bulletin states:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of combination rates because such rates apply to specific combinations of exporters and one or more producers. The cash-deposit rate assigned to an exporter will apply only to merchandise both exported by the firm in question and produced by a firm that supplied the exporter during the period of investigation.³⁵

³⁵ See Import Administration Policy Bulletin, Number: 05.1, “Separate-Rates Practice and Application of Combination Rates in Antidumping Investigations involving Non-Market Economy Countries,” dated April 5, 2005, available on the Department's Web site at http://ia.ita.doc.gov/policy/bull05-1.pdf; See also Certain Circular Welded Carbon Quality Steel Line Pipe from the PRC, 73 FR 23188, 23193.

Distribution of Copies of the Petition

In accordance with section 732(b)(3)(A) of the Act and 19 CFR 351.202(f), a copy of the public version of the Petition has been provided to the representatives of the Government of the PRC. Because of the particularly large number of producers/exporters identified in the Petition, the Department considers the service of the public version of the Petition to the foreign producers/exporters satisfied by the delivery of the public version to the Government of the PRC, consistent with 19 CFR 351.203(c)(2).

ITC Notification

We have notified the ITC of our initiation, as required by section 732(d) of the Act.

Preliminary Determination by the International Trade Commission

The ITC will preliminarily determine, no later than July 13, 2009,³⁶ whether there is a reasonable indication that imports of PC strand from the PRC materially injure, or threaten material injury to, a U.S. industry. A negative ITC determination covering all classes or kinds of merchandise covered by the Petition would result in the investigation being terminated. Otherwise, this investigation will proceed according to statutory and regulatory time limits.

³⁶ Where the deadline falls on a weekend/holiday, the appropriate date is the next business day.

This notice is issued and published pursuant to section 777(i) of the Act.

Dated: June 16, 2009.
Ronald K. Lorentzen,
Acting Assistant Secretary for Import Administration.

Appendix I

Scope of the Investigation

For purposes of this investigation, prestressed concrete steel wire strand (PC strand) is steel wire strand, other than of stainless steel, which is suitable for use in, but not limited to, prestressed concrete (both pretensioned and post-tensioned) applications. The scope of this investigation encompasses all types and diameters of PC strand whether uncoated (uncovered) or coated (covered) by any substance, including but not limited to, grease, plastic sheath, or epoxy. This merchandise includes, but is not limited to, PC strand produced to the American Society for Testing and Materials (ASTM) A-416 specification, or comparable domestic or foreign specifications. PC strand made from galvanized wire is excluded from the scope if the zinc and/or zinc oxide coating meets or exceeds the 0.40 oz./ft²; standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

Appendix II

Where it is not practicable to examine all known exporters/producers of subject merchandise, section 777A(c)(2) of the Tariff Act of 1930, as amended, permits us to investigate (1) a sample of exporters, producers, or types of products that is statistically valid based on the information available at the time of selection, or (2) exporters and producers accounting for the largest volume of the subject merchandise that can reasonably be examined.

In the chart below, please provide the total quantity and total value of all your sales of merchandise covered by the scope of this investigation (see “Scope of Investigation” section of this notice), produced in the PRC, and exported/shipped to the United States during the period October 1, 2008, through March 31, 2009.

Market | Total quantity in kilograms | Terms of sale | Total value in U.S. dollars
United States: |  |  |
1. Export Price Sales |  |  |
2. a. Exporter Name |  |  |
b. Address |  |  |
c. Contact |  |  |
d. Phone No. |  |  |
e. Fax No. |  |  |
3. Constructed Export Price Sales |  |  |
4. Further Manufactured |  |  |
Total Sales |  |  |

Total Quantity:

• Please report quantity on a kilograms basis. If any conversions were used, please provide the conversion formula and source.

Terms of Sales:

• Please report all sales on the same terms (e.g., free on board at port of export).

Total Value:

• All sales values should be reported in U.S. dollars. Please indicate any exchange rates used and their respective dates and sources.

Export Price Sales:

• Generally, a U.S. sale is classified as an export price sale when the first sale to an unaffiliated customer occurs before importation into the United States.

• Please include any sales exported by your company directly to the United States.

• Please include any sales exported by your company to a third-country market economy reseller where you had knowledge that the merchandise was destined to be resold to the United States.

• If you are a producer of subject merchandise, please include any sales manufactured by your company that were subsequently exported by an affiliated exporter to the United States.

• Please do not include any sales of subject merchandise manufactured in Hong Kong in your figures.

Constructed Export Price Sales:

• Generally, a U.S. sale is classified as a constructed export price sale when the first sale to an unaffiliated customer occurs after importation. However, if the first sale to the unaffiliated customer is made by a person in the United States affiliated with the foreign exporter, constructed export price applies even if the sale occurs prior to importation.

• Please include any sales exported by your company directly to the United States.

• Please include any sales exported by your company to a third-country market economy reseller where you had knowledge that the merchandise was destined to be resold to the United States.

• If you are a producer of subject merchandise, please include any sales manufactured by your company that were subsequently exported by an affiliated exporter to the United States.

• Please do not include any sales of subject merchandise manufactured in Hong Kong in your figures.

Further Manufactured:

• Sales of further manufactured or assembled (including re-packaged) merchandise is merchandise that undergoes further manufacture or assembly in the United States before being sold to the first unaffiliated customer.

• Further manufacture or assembly costs include amounts incurred for direct materials, labor and overhead, plus amounts for general and administrative expense, interest expense, and additional packing expense incurred in the country of further manufacture, as well as all costs involved in moving the product from the U.S. port of entry to the further manufacturer.

[FR Doc. E9-14721 Filed 6-22-09; 8:45 am]

BILLING CODE 3510-DS-P